DEPARTMENT OF DEFENSE

Department of Army

[Docket ID: USA-2008-0076]

Privacy Act of 1974; System of Records

AGENCY: Department of the Army, DoD.

ACTION: Notice to delete a System of Records.

SUMMARY: The Department of the Army is deleting a system of records in its existing inventory of record systems subject to the Privacy Act of 1974 (5 U.S.C. 552a), as amended.

DATES: This proposed action will be effective without further notice on November 24, 2008 unless comments are received which result in a contrary determination.

ADDRESSES: Send comments to the Department of the Army, Records Management and Declassification Agency, Privacy Division, 7701 Telegraph Road, Alexandria, VA 22315.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The Department of Army proposes to delete a system of records notice from its inventory of record systems subject to the Privacy Act of 1974 (5 U.S.C. 552a), as amended. The proposed deletion is not within the purview of subsection (r) of the Privacy Act of 1974 (5 U.S.C. 552a), as amended, which requires the submission of new or altered systems reports.

Dated: October 15, 2008.
Patricia L. Toppings,
OSD Federal Register Liaison Officer, Department of Defense.

A055-355 MTMC

System name:

Personal Property Movement and Storage Records (February 1, 1996, 61 FR 3685).

Reason:

These records are now covered under notice F024 AF USTRANSCOM B DoD, DoD Transportation Repository Records (June 12, 2008, 73 FR 33413).

[FR Doc. E8-25272 Filed 10-22-08; 8:45 am]

BILLING CODE 5001-06-P